ENVIRONMENTAL PROTECTION AGENCY

40 CFR Part 52

[KY 146-200340(a) and IN 121-4; FRL-7606-2]

Approval and Promulgation of Implementation Plans; Kentucky and Indiana: Approval of Revisions to 1-Hour Ozone Maintenance Plan for Louisville Area

AGENCY: Environmental Protection Agency (EPA).

ACTION: Proposed rule.

SUMMARY: EPA is proposing to approve revisions to the state implementation plans (SIPs) of the Commonwealth of Kentucky and the State of Indiana to revise the 2012 motor vehicle emission budgets (MVEBs) using MOBILE6 for the Louisville 1-hour ozone maintenance area. The Louisville maintenance area includes Jefferson County, and portions of Bullitt and Oldham Counties, Kentucky; and Clark and Floyd Counties, Indiana. The Commonwealth's and the State's submittals meet a commitment to revise and resubmit the MVEBs using MOBILE6 methods within two years following the release of MOBILE6 provided that transportation conformity is not determined in the Louisville area without adequate MOBILE6-based MVEBs during the second year. In two, separate Federal Register actions published on August 7, 2003, EPA found Kentucky's and Indiana's MVEBs adequate for transportation conformity purposes. As a result of these findings, the Louisville area must use the revised MVEBs for future conformity determinations effective August 22, 2003.

DATES: Written comments must be received on or before February 4, 2004.

ADDRESSES: Comments may be submitted by mail to: (Kentucky submittal)—Michele Notarianni, Air Planning Branch, Air, Pesticides and Toxics Management Division, U.S. Environmental Protection Agency Region 4, 61 Forsyth Street, SW., Atlanta, Georgia 30303-8960. (Indiana submittal)—J. Elmer Bortzer, Chief, Regulation Development Section, Air Programs Branch, Air and Radiation Division, U.S. Environmental Protection Agency Region 5, 77 W. Jackson Blvd., Chicago, Illinois 60604-3590. Comments may also be submitted electronically, or through hand delivery/courier. Please follow the detailed instructions described in (sections IX.B.1. through 3.) of the SUPPLEMENTARY INFORMATION section.

FOR FURTHER INFORMATION CONTACT: (Kentucky Submittal)—Michele Notarianni, Air Planning Branch, Air, Pesticides and Toxics Management Division, U.S. Environmental Protection Agency Region 4, 61 Forsyth Street, SW., Atlanta, Georgia 30303-8960. Phone: (404) 562-9031. E-mail: notarianni.michele@epa.gov. (Indiana Submittal)—Patricia Morris, Air Programs Branch, U.S. Environmental Protection Agency Region 5, 77 West Jackson Boulevard, Chicago, Illinois 60604-3590. Phone: (312) 353-8656. E-mail: morris.patricia@epa.gov.

SUPPLEMENTARY INFORMATION:

Table of Contents

I. What Is the Background for This Action?

II. What Action Is EPA Proposing Today?

III. What Changes Were Made to the Louisville 1-Hour Ozone Maintenance Plan?

IV. What Is Transportation Conformity?

V. What Is a MVEB?

VI. What Is a Safety Margin?

VII. How Does This Action Change Implementation of Transportation Conformity for the Louisville Maintenance Area?

VIII. What Is the Proposed Action?

IX. General Information

X. Statutory and Executive Order Reviews

I. What Is the Background for This Action?

On October 23, 2001, EPA redesignated the Louisville area to attainment for the 1-hour ozone National Ambient Air Quality Standard (NAAQS) and approved the plans for maintaining the 1-hour ozone NAAQS through 2012 as revisions to the Kentucky and Indiana SIPs (66 FR 53665). The Louisville maintenance area includes Jefferson County, and portions of Bullitt and Oldham Counties, Kentucky; and Clark and Floyd Counties, Indiana. In this same rulemaking, EPA also found adequate and approved Kentucky's and Indiana's MVEBs for volatile organic compounds (VOC) and nitrogen oxides (NOX) in the maintenance plans for transportation conformity purposes. The future mobile source emissions used in the Kentucky and Indiana portions of the Louisville area maintenance plan and MVEBs were calculated using MOBILE5b and credit was taken for the federal Tier 2/Sulfur Program (VOC for Jefferson, Bullitt, and Oldham Counties, NOX for Jefferson County, and both VOC and NOX for Clark and Floyd Counties).

In November of 1999, EPA issued two memoranda ¹ to articulate its policy regarding states that incorporated MOBILE5-based interim Tier 2 standard ² benefits into their SIPs and MVEBs. Although these memoranda primarily targeted certain serious and severe ozone nonattainment areas, EPA has implemented this policy in all other areas that have made use of federal Tier 2 benefits in air quality plans from EPA's April 2000 MOBILE5 guidance, “MOBILE5 Information Sheet #8: Tier 2 Benefits Using MOBILE5.” All states whose attainment demonstrations or maintenance plans include interim MOBILE5-based estimates of the Tier 2 standards were required to make a commitment to revise and resubmit their MVEBs within either one or two years of the final release of MOBILE6 in order to gain SIP approval.

¹ Memoranda, “Guidance on Motor Vehicle Emissions Budgets in 1-Hour Ozone Attainment Demonstrations,” issued November 3, 1999, and “1-Hour Ozone Attainment Demonstrations and Tier 2/Sulfur Rulemaking,” issued November 8, 1999. Copies of these memoranda are on EPA's Web site at http://www.epa.gov/otaq/transp/traqconf.htm.

² The final rule on Tier 2 Motor Vehicle Emissions Standards and Gasoline Sulfur Control Requirements (“Tier 2 standards”) for passenger cars, light trucks, and larger passenger vehicles was published on February 10, 2000 (65 FR 6698).

EPA officially released the MOBILE6 motor vehicle emissions factor model on January 29, 2002 (67 FR 4254). Thus, the effective date of that Federal Register action constituted the start of the two year time period in which Kentucky and Indiana were required to revise the maintenance plan SIPs using the MOBILE6 model.

MOBILE 5b, as released, did not allow the user to estimate the emission reduction credits for the Tier 2/Low Sulfur rule. This situation existed since the Tier 2 rule was promulgated after the release of MOBILE5b. Therefore, in order to allow areas that wanted to claim emission reduction credit for the Tier 2/Low Sulfur rule to estimate the benefits, EPA provided a method to estimate those reductions. This MOBILE5b approximation methodology represented the information available for use in on-road mobile source modeling at that time when MOBILE5b was the approved model. EPA recognized these approximations may change as more data was analyzed and incorporated into the next version of the MOBILE model, MOBILE6. EPA required areas that used the MOBILE5b approximation method to resubmit MVEBs recalculated with MOBILE6. Specifically, EPA established a policy that MVEBs would not be approved as being adequate for purposes of conformity unless the SIP also included an enforceable commitment to revise and resubmit the MVEBs using MOBILE6 methods within one year after the EPA releases MOBILE6 or, alternatively, within two years following the release of MOBILE6 provided that transportation conformity is not determined in the area without adequate MOBILE6-based MVEBs during the second year. Based on this policy, EPA required both Kentucky and Indiana to update the MVEBs in their respective 1-hour ozone maintenance plans for the Louisville area within two years after the release of MOBILE6 and further, any new conformity analysis in the Louisville area cannot be found to conform during the second year until MVEBs based on MOBILE6 calculations are found adequate (October 23, 2001, 66 FR 53665). For a more detailed explanation of EPA's rationale for this policy, please refer to this same rulemaking under the heading, “Response 4D,” in section II. “ What Comments Did We Receive and What Are Our Responses?” (October 23, 2001, 66 FR 53665), or to the January 18, 2002, “Policy Guidance on the Use of MOBILE6 for SIP Development and Transportation Conformity” (http://www.epa.gov/otaq/models/mobile6/m6policy.pdf).

II. What Action Is EPA Proposing Today?

EPA is proposing to approve revisions to the Kentucky and Indiana SIPs submitted by the Commonwealth of Kentucky, through the Kentucky Department of Air Quality (KDAQ), on June 27, 2003, and submitted by the Indiana Department of Environmental Management (IDEM) on June 26, 2003. The States' revisions update the MVEBs and projected mobile source emissions using MOBILE6 for the Kentucky and Indiana portions of the Louisville 1-hour ozone maintenance area. These revisions meet the requirements established in the final rulemaking published October 23, 2001 (66 FR 53665). KDAQ and IDEM submitted drafts of their respective SIP revisions with a request to parallel process their submissions on May 14, 2003, and May 13, 2003, respectively.

III. What Changes Were Made to the Louisville 1-Hour Ozone Maintenance Plan?

Kentucky and Indiana demonstrate transportation conformity for the Louisville 1-hour ozone maintenance area together and thus, elect not to use sub-area MVEBs. IDEM, KDAQ, the Greater Louisville Air Pollution Control District (APCD), and the Kentuckiana Regional Planning and Development Agency (KIPDA) revised the MVEBs and mobile source emissions using MOBILE6.2, the most current version of MOBILE6. The revised 2012 MVEBs for the total Louisville area are 47.28 tons per summer day (tpd) for VOC and 111.13 tpd for NOX. The MVEBs include allocations of 26.83 tpd VOC from the area's available VOC safety margin of 26.83 tpd and 72.25 tpd NOX from the area's available NOX safety margin of 154.00 tpd. The 2012, MOBILE6-based, projected mobile source emissions (excluding nonroad emissions) for the Kentucky portion of the area changed from 27.23 to 15.43 tpd VOC and from 44.19 to 29.59 tpd NOX. For the Indiana portion, the 2012, MOBILE6-based, projected mobile source emissions (excluding nonroad emissions) changed from 17,619 pounds per summer day (lbs/d) (8.81 tpd) to 10,049 lbs/d (5.02 tpd) VOC and from 25,646 lbs/d (12.82 tpd) to 18,586 lbs/d (9.29 tpd) NOX. (Please refer to the following table for details.)

Louisville Maintenance Area Anthropogenic Emissions by State Safety Margins and MVEBs
[tons per summer day]
State and source category | VOC 1999 | VOC 2012 | NOX 1999 | NOX 2012
Kentucky:
Point | 31.52 | 31.52 | 116.86 | 47.99
Area | 18.94 | 19.64 | 0.81 | 0.82
Mobile | 39.56 | 15.43 | 87.26 | 29.59
Nonroad | 15.07 | 15.22 | 19.95 | 19.41
Total | 105.09 | 81.81 | 224.88 | 97.81
Indiana:
Point | 4.16 | 4.88 | 26.04 | 12.38
Area | 17.67 | 18.14 | 8.39 | 9.24
Mobile | 10.49 | 5.02 | 23.87 | 9.29
Nonroad | 7.36 | 8.09 | 6.25 | 6.71
Total | 39.68 | 36.13 | 64.55 | 37.62
Total KY + IN Emissions | 144.77 | 117.94 | 289.43 | 135.43
Total Emission Reductions from 1999 to 2012 (Allowable Safety Margin) |  | 26.83 |  | 154.00
Safety Margin Allocated to MVEBs |  | 26.83 |  | 72.25
Remaining Safety Margin for 2012 after allocation made to MVEBs |  | 0.00 |  | 81.75
Regional 2012 MVEBs |  | 47.28 |  | 111.13

The following changes were also made to the Kentucky portion of the plan. APCD updated mobile emission projections to reflect that Jefferson County is not taking emissions reduction credit for its Vehicle Emissions Testing Program after October 31, 2003, as the Kentucky General Assembly enacted legislation in 2002 to end the program by November 1, 2003. The planning assumptions for the point, area, and nonroad source categories in Jefferson, Bullitt, and Oldham Counties were also reviewed to ensure there have been no major changes since approval of the maintenance plan on October 23, 2001.

KIPDA, APCD, and DAQ also updated several key data parameters and modeling techniques. To address concerns expressed about the speed estimation procedures used, KIPDA made the following changes. The methodology and equations of the Highway Economic Reporting System have been used to provide empirical data for speed adjustment of roadways with urban functional classifications. Data from the Automatic Continuous Traffic Recorders (ATRs) of the Kentucky Transportation Cabinet (KYTC) have been used to provide empirical data for speed adjustment of roadways with rural functional classifications. Data from the local KYTC ATRs have been used to calculate the vehicle-miles-traveled (VMT) and speeds on an hourly basis.

To ensure that the VOC, NOX, and carbon monoxide (CO) emissions remain constant when using MOBILE6.2 as opposed to MOBILE6.0, and to use newer data supplied by the EPA and KIPDA, APCD made the following changes. Fuel parameters have been added or modified to enable new AIR TOXICS functionality of MOBILE6.2 without modifying consensus planning assumptions for fuel types and control programs. The VMT mix now has annual variations. Speed VMT and facility VMT distribution tables have been significantly revised by KIPDA to address concerns raised by the EPA regarding the speed estimation procedures. The VMT weighting accounting for the effects of the various inspection and maintenance (I/M) programs in the Louisville area have been updated.

For the affected portions of Bullitt and Oldham Counties, the DAQ made the following changes. The minimum and maximum temperatures were updated using the three most recent years of data available, 1999, 2000, and 2001. These temperature values were last developed in 1992. The speed data used in MOBILE6.2 is the same as that used in the Louisville redesignation request using MOBILE5b except for the DAQ Road Classifications of Rural Local at 12.9 miles per hour (mph), Urban Local at 12.9 mph, and Ramp at 34.6 mph. A new requirement with MOBILE6.2 for freeway VMT distribution percentages, which apply to the Rural Interstate, Urban Interstate, and Urban Freeway Road Classifications, had to be implemented. Through consultation with the KYTC, it was advised that the MOBILE6.2 default values of “92.0 0.0 0.0 8.0” would best represent the conditions for the 1-hour ozone maintenance portions of Bullitt and Oldham Counties. These values represent a ramp percentage equal to eight percent of all Freeway Road Classifications. Following EPA guidance, the DAQ correlated 12 Road Classifications that were used in the MOBILE5b analysis with the four Road Classifications used in MOBILE6.2.

The following changes were made to the Indiana portion of the plan. IDEM updated the mobile emission projections to reflect the uncertainty in the continuation of the Enhanced I/M Program. On April 25, 2003, the Indiana House passed the House Enrolled Act 1798, which discontinued the vehicle I/M program in Clark and Floyd Counties after December 31, 2006, unless the State Budget Agency determined that the implementation of a periodic vehicle I/M program is necessary to avoid a loss of federal highway funding for the State or a political subdivision. The emission reductions from the I/M program have not been included in the emission estimates for 2012. Although the Governor vetoed this bill, Indiana has decided to not take credit for this program after 2007 in the maintenance plan due to the uncertainty about further legislative action. Although IDEM can maintain emissions at low enough levels to maintain the 1-hour ozone NAAQS, the Louisville area is not attaining the 8-hour ozone NAAQS and may need I/M to attain the 8-hour ozone standard. Therefore, mobile source emission reductions attributed to this I/M program that would have occurred in Jefferson County, Kentucky were removed from the 2008 and 2012 projected emission inventories. This increases the Jefferson County mobile source VOC emissions by 0.13 and 0.11 tpd for 2008 and 2012, respectively, and the Jefferson County NOX emissions by 0.11 tpd for both 2008 and 2012.

In April 2003, the Indiana General Assembly also passed a bill, House Enrollment Act 1657, that lifted the restrictions on open burning of vegetation from agricultural land in the unincorporated portions of Clark and Floyd Counties. This resulted in a minor adjustment to the area source and total emissions inventories.

IDEM reviewed the planning assumptions for the point, area, and nonroad source categories in Clark and Floyd Counties to ensure there have been no other changes since approval of the maintenance plan on October 23, 2001.

IV. What Is Transportation Conformity?

Transportation conformity means that the level of emissions from the transportation sector (i.e., cars, trucks and buses) must be consistent with the requirements in the SIP to attain and maintain the NAAQS. The Clean Air Act, in section 176(c), requires conformity of transportation plans, programs and projects to a SIP's purpose of attaining and maintaining the NAAQS. On November 24, 1993, EPA published a final rule establishing criteria and procedures for determining if transportation plans, programs and projects funded or approved under Title 23 U.S.C. or the Federal Transit Act conform to the SIP. EPA revised the transportation conformity rule on August 7, 1995 (60 FR 40098), November 14, 1995 (60 FR 57179), and August 15, 1997 (62 FR 43780), and codified the revisions under 40 CFR part 51, subpart T and 40 CFR part 93, Subpart A—Conformity to State or Federal Implementation Plans of Transportation Plans, Programs, and Projects Developed, Funded or Approved Under Title 23 U.S.C. of the Federal Transit Laws (62 FR 43780). The transportation conformity rules require an ozone maintenance area to compare the actual projected emissions from cars, trucks and buses on the highway network, to the MVEB established by the maintenance plan. The Louisville area has an approved maintenance plan. EPA's approval of the maintenance plan on October 23, 2001, established interim MVEBs for transportation conformity purposes. These SIP revisions revise the MVEBs and reestablish the MVEBs for transportation conformity purposes.

V. What Is a MVEB?

A MVEB is the projected level of controlled emissions from the transportation sector (mobile sources) that is estimated in the SIP. The SIP controls emissions through regulations, for example, on fuels and exhaust levels for cars. The MVEB concept is further explained in the preamble to the November 24, 1993, transportation conformity rule (58 FR 62188). The preamble also describes how to establish the MVEB in the SIP and revise the MVEB. The transportation conformity rule allows the MVEB to be changed as long as the total level of emissions from all sources remains below the attainment level of emissions.

VI. What Is a Safety Margin?

A “safety margin” is the difference between the attainment level of emissions (from all sources) and the projected level of emissions (from all sources) in the maintenance plan. The attainment level of emissions is the level of emissions during one of the years in which the area met the NAAQS. Because Kentucky and Indiana demonstrate transportation conformity for the Louisville area together, the safety margin is for the entire area and is not sub-allocated by state. For example, the Louisville area attained the 1-hour ozone NAAQS during the 1998-2000 time period. Kentucky and Indiana use 1999 as the attainment level of emissions for the area. The emissions from point, area, nonroad, and mobile sources in 1999 equaled 144.77 tpd of VOC for the entire Louisville area. Projected VOC emissions out to the year 2012 equaled 117.94 tpd of VOC. The safety margin for VOCs is calculated to be the difference between these amounts or, in this case, 26.83 tpd of VOC for 2012. By this same method, 154.00 tpd (i.e., 289.43 tpd less 135.43 tpd) is the safety margin for NOX for 2012. The emissions are projected to maintain the area's air quality consistent with the NAAQS. The safety margin credit, or a portion thereof, can be allocated to the transportation sector. The total emission level must stay below the attainment level to be acceptable. The safety margin is the extra emissions that can be allocated as long as the total attainment level of emissions is maintained.

VII. How Does This Action Change Implementation of Transportation Conformity for the Louisville Maintenance Area?

In today's action, EPA is proposing to approve revisions to the 2012 MVEBs for both the Kentucky and Indiana portions of the Louisville 1-hour ozone maintenance area. The revised 2012 MVEBs for the total Louisville area are 47.28 tpd for VOC and 111.13 tpd for NOX. In two, separate Federal Register actions published on August 7, 2003 (68 FR 47059 and 68 FR 47060), EPA found Kentucky's and Indiana's MVEBs adequate for transportation conformity purposes. As a result of these findings, the Louisville area must use the revised 2012 MVEBs for future conformity determinations effective August 22, 2003. The action of EPA finding the MVEBs adequate removes the administrative freeze on transportation conformity on the area and allows the area to demonstrate conformity.

VIII. What Is the Proposed Action?

EPA is proposing to approve Kentucky's and Indiana's SIP revisions because they meet all of the requirements of section 110 of the Clean Air Act. Additionally, these SIP revisions meet the applicable requirements of the Transportation Conformity Rule.

IX. General Information

A. How Can I Get Copies of This Document and Other Related Information?

1. The Regional Offices have established an official public rulemaking file available for inspection at the Regional Offices. EPA has established an official public rulemaking file for this action under KY 146-200340(a) and for Indiana under IN 121-4. The official public file consists of the documents specifically referenced in this action, any public comments received, and other information related to this action. Although a part of the official docket, the public rulemaking file does not include Confidential Business Information (CBI) or other information whose disclosure is restricted by statute. The official public rulemaking file for Kentucky's SIP is the collection of materials that is available for public viewing at the Regulatory Development Section, Air Planning Branch, Air, Pesticides and Toxics Management Division, U.S. Environmental Protection Agency Region 4, 61 Forsyth Street, SW., Atlanta, Georgia 30303-8960. The official public rulemaking file for Indiana's SIP is the collection of materials that is available for public viewing at the Regulation Development Section, Air Programs Branch, Air and Radiation Division, U.S. Environmental Protection Agency Region 5, 77 W. Jackson Blvd., Chicago, Illinois 60604-3590. EPA requests that if at all possible, you contact the contacts listed in the FOR FURTHER INFORMATION CONTACT section to schedule your inspection. The Regional Offices' official hours of business are Monday through Friday, 9 to 3:30, excluding Federal Holidays.

2. Copies of the Kentucky submittal are also available for public inspection during normal business hours, by appointment at the Kentucky State Air Agency. Commonwealth of Kentucky, Division for Air Quality, 803 Schenkel Lane, Frankfort, Kentucky 40601-1403. (502/573-3382).

3. Electronic Access. You may access this Federal Register document electronically through the Regulation.gov Web site located at http://www.regulations.gov, where you can find, review, and submit comments on Federal rules that have been published in the Federal Register, the Government's legal newspaper, and are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

B. How and to Whom Do I Submit Comments?

You may submit comments electronically, by mail, or through hand delivery/courier. To ensure proper receipt by EPA, identify the appropriate rulemaking identification number by including the text “Public comment on proposed rulemaking KY 146-200340(a)” or “Public comment on proposed rulemaking IN 121-4” in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

i. E-mail. Comments may be sent by electronic mail (e-mail) to notarianni.michele@epa.gov and bortzer.jay@epa.gov. Please include the text “Public comment on proposed rulemaking KY 146-200340(a) and IN 121-4” in the subject line. EPA's e-mail system is not an “anonymous access” system. If you send an e-mail comment directly without going through Regulations.gov, EPA's e-mail system automatically captures your e-mail address. E-mail addresses that are automatically captured by EPA's e-mail system are included as part of the comment that is placed in the official public docket.

ii. Regulation.gov. Your use of Regulation.gov is an alternative method of submitting electronic comments to EPA. Go directly to Regulations.gov at http://www.regulations.gov, then select Environmental Protection Agency at the top of the page and use the go button. The list of current EPA actions available for comment will be listed. Please follow the online instructions for submitting comments. The system is an “anonymous access” system, which means EPA will not know your identity, e-mail address, or other contact information unless you provide it in the body of your comment.

iii. Disk or CD ROM. You may submit comments on a disk or CD ROM that you mail to the mailing address identified in Section 2, directly below. These electronic submissions will be accepted in WordPerfect, Word or ASCII file format. Avoid the use of special characters and any form of encryption.

2. By Mail. For the Kentucky submittal, send your comments to: Michele Notarianni, Regulatory Development Section, Air Planning Branch, Air, Pesticides and Toxics Management Division, Region 4, U.S. Environmental Protection Agency, 61 Forsyth Street, SW., Atlanta, Georgia 30303-8960. For the Indiana submittal, send your comments to: J. Elmer Bortzer, Chief, Regulation Development Section, Air Programs Branch, Air and Radiation Division, U.S. Environmental Protection Agency Region 5, 77 W. Jackson Blvd., Chicago, Illinois 60604-3590. Please include the text “Public comment on proposed rulemaking KY 146-200340(a)” or “Public comment on proposed rulemaking IN 121-4” in the subject line on the first page of your comment.

3. By Hand Delivery or Courier. For the Kentucky submittal, deliver your comments to: Michele Notarianni, Air Planning Branch, Air, Pesticides and Toxics Management Division, U.S. Environmental Protection Agency Region 4, 61 Forsyth Street, SW., Atlanta, Georgia 30303-8960. For the Indiana submittal, deliver your comments to: J. Elmer Bortzer, Chief, Regulation Development Section, Air Programs Branch, Air and Radiation Division, U.S. Environmental Protection Agency Region 5, 77 W. Jackson Blvd., Chicago, Illinois 60604-3590. Such deliveries are only accepted during the Regional Offices' normal hours of operation. The Regional Offices' official hours of business are Monday through Friday, 9 to 3:30, excluding federal Holidays.

C. How Should I Submit CBI to the Agency?

Do not submit information that you consider to be CBI electronically to EPA. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD ROM, mark the outside of the disk or CD ROM clearly that it does not contain CBI. Information not marked as CBI will be included in the public file and available for public inspection without prior notice. If you have any questions about CBI or the procedures for claiming CBI, please consult the person identified in the FOR FURTHER INFORMATION CONTACT section.

D. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate regional file/rulemaking identification number in the subject line on the first page of your response. It would also be helpful if you provided the name, date, and Federal Register citation related to your comments.

X. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Carbon monoxide, Intergovernmental relations, Nitrogen dioxide, Ozone, Reporting and recordkeeping requirements, Volatile organic compounds.

Authority: 42 U.S.C. 7401 et seq.

Dated: October 15, 2003.
Bharat Mathur,
Acting Regional Administrator, Region 5.
Dated: December 16, 2003.
A. Stanley Meiburg,
Acting Regional Administrator, Region 4.

[FR Doc. 04-11 Filed 1-2-04; 8:45 am]

BILLING CODE 6560-50-P